DEPARTMENT OF TRANSPORTATION

Federal Aviation Administration

RTCA; Special Committee 189/EUROCAE Working Group 53; Air Traffic Services Safety and Interoperability Requirements

Pursuant to section 10(a)(2) of the Federal Advisory Committee Act (Pub. L. 92-463, 5 U.S.C., Appendix 2), notice is hereby given for a joint Special Committee (SC)-189/EUROCAE Working Group (WG)-53 meeting to be held October 16-20, 2000, starting at 9 a.m. on October 16. The meeting will be held at STNA Headquarters, 1, avenue du Dr Maurice Grynfogel, F-31035 Toulouse, France.

The agenda will include: Monday, October 16: Opening Plenary Session Convenes at 9 a.m.: (1) Introductory Remarks; (2) Review and Approve Agenda; (3) Review and Approve Summary of the Previous Meeting; (4) Sub-Group and Related Reports; (5) Position Papers Planned for Plenary Agreement; (6) SC-189/WG-53 Co-chair Progress Report. Tuesday, October 17 through Thursday, October 19: (7) Sub-group Meetings (Publications Integration, Interoperability, Safety and Performance, and Operations). Friday, October 20: Closing Plenary Session: (8) Introductory Remarks; (9) Review and Approval of Agenda; (10) Review of Preliminary Meeting Minutes; (11) Sub-group and Related Reports; (12) Position Papers Planned for Plenary Agreement; (13) SC-189/WG-53 Co-chair Progress Report and (14) Closing.

Attendance is open to the interested public but limited to space availability. With the approval of the chairmen, members of the public may present oral statements at the meeting. Persons wishing to present statements or obtain information should contact the RTCA Secretariat, 1140 Connecticut Avenue, NW., Suite 1020, Washington, DC 20036; (202) 833-9339 (phone), (202) 833-9434 (fax), or by http://www.rtca.org (web site), or the on-site contact: Laurent Tessier, at 05 62 14 58 72 (phone), 05 62 14 55 55 (fax) or email Laurent_Tessier@stna.dgac.fr. Special Instructions for attendees—the following information is needed for security access to STNA in Toulouse: Name, company/government agency, address, age, and nationality. Provide this information to Tom Miller, SC-189/ WG-53 Secretary, via email at tom.ctr.miller@faa.gov. Members of the public may present a written statement to the committee at any time.

Issued in Washington, DC, on September 25, 2000.
Janice L. Peters,
Designated Officer.

[FR Doc. 00-25075 Filed 9-28-00; 8:45 am]

BILLING CODE 4910-13-M